DEPARTMENT OF THE INTERIOR

Fish and Wildlife Service

Notice of Intent To Prepare an Environmental Impact Statement for Issuance of a Permit To Incidentally Take Threatened and Endangered Species in Association With a Habitat Conservation Plan for the Metro Air Park Project in the Natomas Basin, Sacramento County, CA

AGENCY: Fish and Wildlife Service, Interior.

ACTION: Notice of intent.

SUMMARY: We, the Fish and Wildlife Service (Service), are considering approval of a Habitat Conservation Plan (Plan) and issuance of an Endangered Species Act Incidental Take Permit under section 10(a)(1)(B) of the Endangered Species Act to the Metro Air Park Property Owners Association (Association), a non-profit mutual benefit corporation representing 138 individual property owners. The permit would authorize incidental take of listed species and unlisted species that may be listed in the future. Incidental taking of listed species could occur as a result of development of the Metro Air Park industrial park project and from rice farming activities.

Pursuant to the National Environmental Policy Act, the Service intends to prepare an Environmental Impact Statement addressing our proposed action of approving the Plan and issuance of an incidental take permit. The Plan covers an area of 1,892 acres within the Metro Air Park Planning Area in the Natomas Basin, Sacramento County, California. The Plan addresses the federally threatened giant garter snake (Thamnophis gigas), Aleutian Canada goose (Branta canadensis leucopareia), valley elderberry longhorn beetle (Desmocerus californicus dimorphus), and 10 currently unlisted species and their habitats. The Plan creates a process for the issuance of permits under the Federal Endangered Species Act, and the California Endangered Species Act.

This notice describes the proposed action and possible alternatives, invites public participation in the scoping process for preparing the Environmental Impact Statement, solicits written comments, and identifies the Service's official to whom questions and comments concerning the proposed action and the Environmental Impact Statement may be directed.

DATES: Written comments are encouraged and should be received on or before March 13, 2000.

ADDRESSES: Information, comments, or questions related to preparation of the Environmental Impact Statement and the National Environmental Policy Act process should be submitted to Wayne White, Field Supervisor, U.S. Fish and Wildlife Service, Sacramento Fish and Wildlife Office, 2800 Cottage Way, W-2605, Sacramento, California 95825. Written comments may also be sent by facsimile to telephone (916) 414-6711.

FOR FURTHER INFORMATION CONTACT: Lori Rinek, Fish and Wildlife Biologist, or Vicki Campbell, Division Chief, at the Sacramento Fish and Wildlife Office, telephone (916) 414-6600. Persons wishing to obtain background material should contact Victoria Harris, Thomas Reid and Associates, 560 Waverley Street, Suite 201, P.O. Box 880, Palo Alto, California 94301, telephone (650) 327-0429.

SUPPLEMENTARY INFORMATION

Availability of Documents

Documents will also be available for public inspection by appointment during normal business hours (7:30 a.m. to 4:30 p.m., Monday through Friday) at the Sacramento Fish and Wildlife Office address provided above.

Background

Listed wildlife species are protected against “take” pursuant to section 9 of the Act. That is, no one may harass, harm, pursue, hunt, shoot, wound, kill, trap, capture, or collect listed animal species, or attempt to engage in such conduct (16 U.S.C. 1538). The Service, however, may issue permits to take listed animal species if such taking is incidental to, and not the purpose of, otherwise lawful activities. Regulations governing permits for endangered species are at 50 CFR 17.22 and 17.32.

In accordance with the requirements for obtaining an incidental take permit, the Association has developed a Plan. The goals of the Plan are to conserve listed and unlisted species and their habitat while accommodating otherwise lawful land uses.

The Plan study area comprises 1,892 acres within the Natomas Basin in Sacramento County, California. Agriculture is the dominant land use in the Natomas Basin and on the Metro Air Park site. The predominant crops are rice, corn, sugar beets, grain, tomatoes, and pasture. Natural and uncultivated vegetation types are interspersed throughout the agricultural areas of the Natomas Basin. Natural areas are found primarily along irrigation canals, drainage ditches, pasture, and uncultivated fields. The borders of drainage canals are often associated with narrow strips of emergent vegetation and/or wooded riparian areas.

Portions of the Natomas Basin that are within the jurisdiction of the City of Sacramento are included in the Natomas Basin Habitat Conservation Plan which was completed by the City of Sacramento in November, 1997. The Metro Air Park project is described in the Natomas Basin Habitat Conservation Plan, but because the Metro Air Park project is outside the City limits, the project cannot be covered by the City's incidental take permit. Therefore, the Association is seeking a separate incidental take permit for the Metro Air Park project. Take could occur as a result of urban development of the Metro Air Park industrial park project and from rice farming activities.

Under the Plan, the Association proposes to minimize and mitigate the effects of urban development by participating in the basin-wide conservation program set up for the entire Natomas Basin which is described in the Natomas Basin Habitat Conservation Plan. The focus of this basin-wide conservation program is on the preservation and enhancement of ecological communities that support species associated with wetland and upland habitats. Through the payment of development fees, one-half acre of mitigation land would be established for every acre of land developed within the Plan area. The mitigation land would be acquired and managed by the Natomas Basin Conservancy, a non-profit conservation organization established to implement the Natomas Basin Habitat Conservation Plan. Mitigation fee amounts and the mitigation strategy for the Plan would be subject to the same adjustments required under the Natomas Basin Habitat Conservation Plan. The Plan also includes take avoidance and minimization measures that include the requirement for landowners to conduct pre-construction species surveys and to carry out minimization measures prior to site development.

Although the consultant for the applicant, Thomas Reid and Associates, will prepare the draft Environmental Impact Statement, the Service will be responsible for its content and scope.

The Environmental Impact Statement will consider the proposed action (issuance of a section 10(a)(1)(B) Endangered Species Act permit to the Association) and a reasonable range of alternatives. Potential alternatives may include different entities as the permittee (e.g., the County or individual land owners), and a No Action alternative. If the County were the permittee, then the Association and landowners would delay development of the Metro Air Park project until the County obtained a section 10(a)(1)(B) permit for areas under its jurisdiction in the Natomas Basin. If each individual land owner were the permittee then separate incidental take permits would need to be processed. The No Action alternative would involve the Service not issuing a section 10(a)(1)(B) permit.

Environmental review of the Plan will be conducted in accordance with the requirements of the 1969 National Environmental Policy Act, as amended (42 U.S.C. 4321 et seq.), National Environmental Policy Act regulations (40 CFR parts 1500-1508), other appropriate regulations, and Service procedures for compliance with those regulations. This notice is being furnished in accordance with Section 1501.7 of the National Environmental Policy Act to obtain suggestions and information from other agencies and the public on the scope of issues to be addressed in the Environmental Impact Statement.

Comments and participation in the scoping process are solicited. The Natomas Basin Habitat Conservation Plan, upon which the Metro Air Park project is based, was subject to extensive public review through the City of Sacramento's California Environmental Quality Act process (Initial Study and Negative Declaration, 6/97), and the Federal review process (National Environmental Policy Act Environmental Assessment, December 1997). All of the issues associated with this project have been thoroughly addressed under the California Environmental Quality Act compliance process. The Service's Environmental Impact Statement will be examining the same issues that have been dealt with under the California Environmental Quality Act as well as any others that may arise.

The primary purpose of the scoping process is to identify rather than to debate the significant issues related to the proposed action. Interested persons are encouraged to provide comments on the scope of issues and alternatives addressed in the draft Environmental Impact Statement.

Dated: February 7, 2000.
Elizabeth H. Stevens,
Deputy Manager, California/Nevada Operations Office.

[FR Doc. 00-3181 Filed 2-10-00; 8:45 am]

BILLING CODE 4310-55-P